DEPARTMENT OF COMMERCE

International Trade Administration

[A-549-822]

Certain Frozen Warmwater Shrimp From Thailand: Preliminary Results of Antidumping Duty Administrative Review and Intent To Revoke the Order (in Part); 2011-2012

AGENCY: Import Administration, International Trade Administration, Department of Commerce.

SUMMARY: The Department of Commerce (the Department) is conducting an administrative review of the antidumping duty order on certain frozen warmwater shrimp from Thailand with respect to 150 ¹ companies. The respondents which the Department selected for individual examination are Marine Gold Products Limited (Marine Gold), and Thai Union Frozen Products Public Co., Ltd. and Thai Union Seafood Co., Ltd. (collectively, Thai Union).² The period of review (POR) is February 1, 2011, through January 31, 2012.

¹ This figure does not include those companies for which the Department is rescinding the administrative review.

² In the 2006-2007 administrative review, the Department found that the following companies comprised a single entity: Thai Union Frozen Products Public Co., Ltd. and Thai Union Seafood Co., Ltd. See Certain Frozen Warmwater Shrimp From Thailand: Preliminary Results and Preliminary Partial Rescission of Antidumping Duty Administrative Review, 73 FR 12088 (March 6, 2008), unchanged in Certain Frozen Warmwater Shrimp From Thailand: Final Results and Final Partial Rescission of Antidumping Duty Administrative Review, 73 FR 50933 (August 29, 2008). Absent information to the contrary, we intend to continue to treat these companies as a single entity for purposes of this administrative review.

We have preliminarily determined that sales to the United States have been made at prices below normal value. We have also preliminarily determined to revoke the antidumping duty order with respect to shrimp from Thailand produced and exported by Marine Gold. Finally, the Department also preliminarily determines that 11 additional exporters made no shipments of subject merchandise during the POR. If these preliminary results are adopted in the final results of this review, we will instruct U.S. Customs and Border Protection (CBP) to assess antidumping duties on all appropriate entries.

DATES: Effective Date: March 12, 2013.

FOR FURTHER INFORMATION CONTACT: Blaine Wiltse or Dennis McClure, AD/CVD Operations, Office 2, Import Administration, International Trade Administration, U.S. Department of Commerce, 14th Street and Constitution Avenue NW., Washington, DC 20230; telephone: (202) 482-6345 or (202) 482-5973, respectively.

SUPPLEMENTARY INFORMATION:

Scope of the Order

The merchandise subject to the order is certain frozen warmwater shrimp.³ The product is currently classified under the Harmonized Tariff Schedule of the United States (HTSUS) subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description, available in Certain Frozen Warmwater Shrimp From Brazil, India, the People's Republic of China, Thailand, and the Socialist Republic of Vietnam: Continuation of Antidumping Duty Orders, 76 FR 23972 (April 29, 2011), remains dispositive.

³ See the “Decision Memorandum for Preliminary Results of Review for the Antidumping Duty Administrative Review of Certain Frozen Warmwater Shrimp from Thailand,” (Preliminary Decision Memorandum) from Christian Marsh, Deputy Assistant Secretary for Antidumping and Countervailing Duty Operations, to Paul Piquado, Assistant Secretary for Import Administration, dated concurrently with these results, for a complete description of the Scope of the Order.

Methodology

The Department has conducted this review in accordance with section 751(a)(2) of the Tariff Act of 1930, as amended (the Act). Export price/constructed export price is calculated in accordance with section 772 of the Act. Normal value is calculated in accordance with section 773 of the Act.

In accordance with section 773(b) of the Act, we disregarded the below-cost sales of Marine Gold and Thai Union in the most recent administrative reviews completed for these companies before the initiation of this review. Therefore, we have reasonable grounds to believe or suspect that Marine Gold's and Thai Union's sales of the foreign like product under consideration for the determination of normal value in this review may have been made at prices below the cost of production (COP) as provided by section 773(b)(2)(A)(ii) of the Act. Accordingly, pursuant to section 773(b)(1) of the Act, we have conducted a COP analysis of Marine Gold's and Thai Union's sales in Thailand in this review. Based on this test, we disregarded certain sales made by Marine Gold and Thai Union in the home market which were made at below-cost prices.

For a full description of the methodology underlying our conclusions, see the Preliminary Decision Memorandum, which is hereby adopted by this notice. The Preliminary Decision Memorandum is a public document and is on file electronically via Import Administration's Antidumping and Countervailing Duty Centralized Electronic Service System (IA ACCESS). Access to IA ACCESS is available in the Central Records Unit (CRU), room 7046 of the main Department of Commerce building. In addition, a complete version of the Preliminary Decision Memorandum can be accessed directly on the Internet at http://www.trade.gov/ia/. The signed Preliminary Decision Memorandum and the electronic versions of the Preliminary Decision Memorandum are identical in content.

Preliminary Determination of No Shipments

Among the companies under review, 13 companies ⁴ reported that they made no shipments of subject merchandise to the United States during the POR.⁵ Based on the certifications of the following companies and our analysis of CBP information, we preliminarily determine that the following companies did not have any reviewable transactions during the POR:

⁴ These companies are Anglo-Siam Seafoods Ltd. (Anglo-Siam), Daedong (Thailand) Co. Ltd. (Daedong), Leo Transport Corporation Ltd. (Leo Transport), Grobest Frozen Foods Co. (Grobest), Ltd., Lucky Union Foods Co., Ltd. (Lucky Union), Namprick Maesri Ltd. Part. (Namprick), S&P Syndicate Public Company Ltd. (S&P), S.K. Foods (Thailand) Public Co. Limited (S.K. Foods), Siamchai International Food Co., Ltd. (Siamchai), Thai Union Manufacturing Company Limited (Thai Union Manufacturing), and V. Thai Food Product Co., Ltd. (V. Thai).

⁵ For a full explanation of the Department's analysis, see the Preliminary Decision Memorandum.

(1) Anglo-Siam.

(2) Daedong.

(3) Leo Transport.

(4) Grobest.

(5) Lucky Union.

(6) Namprick.

(7) S&P.

(8) S.K. Foods.

(9) Siamchai.

(10) Thai Union Manufacturing.

(11) V. Thai.

In addition, the Department finds that it is not appropriate to preliminarily rescind the review with respect to these companies but, rather, to complete the review with respect to these companies and issue appropriate instructions to CBP based on the final results of this review.⁶

⁶ See Wooden Bedroom Furniture From the People's Republic of China: Preliminary Results of Antidumping Duty Administrative Review; 2011, 78 FR 8493 (February 6, 2013).

Finally, the Department received no shipment certifications from two additional companies, C Y Frozen Food Co., Ltd. (C Y Frozen Food) and Kosamut Frozen Foods Co., Ltd. (Kosamut). We preliminarily find that there is insufficient evidence on the record of this review to conclude that these companies made no shipments of subject merchandise to the United States during the POR because: (1) C Y Frozen Foods failed to certify its statement of no shipments in accordance with 19 CFR 351.303(g)(1), despite the Department's request that it do so; and (2) Kosamut's no shipment statement related only to its own exports and not those of another affiliated exporter which has to date been treated as the same entity as Kosamut for cash deposit purposes.⁷ Therefore, we are continuing to include both C Y Frozen Foods and Kosamut in this administrative review for purposes of the preliminary results.

⁷ After reviewing the data submitted by Kosamut regarding its relationship with its affiliated exporter, we have determined that we need additional information from Kosamut before evaluating its no shipments claim. We intend to request this information and consider it in our final results.

Preliminary Intent To Revoke

On February 1, 2012, Marine Gold requested revocation of the order on shrimp from Thailand as it pertains to its sales. Pursuant to 19 CFR 351.222(b)(2),⁸ the Department may revoke an antidumping duty order in part if it concludes that (A) an exporter or producer has sold the merchandise at not less than normal value for a period of at least three consecutive years, (B) the exporter or producer has agreed in writing to its immediate reinstatement in the order if the Secretary concludes that the exporter or producer, subsequent to the revocation, sold the subject merchandise at less than normal value, and (C) the continued application of the antidumping duty order is no longer necessary to offset dumping.

⁸ The Department recently modified the section of its regulations concerning the revocation of antidumping and countervailing duty orders in whole or in part, but that modification does not apply to this administrative review. See Modification to Regulation Concerning the Revocation of Antidumping and Countervailing Duty Orders, 77 FR 29875 (May 21, 2012). Reference to 19 CFR 351.222(b) refers to the Department's regulations prior to the modification.

With regard to the criteria of 19 CFR 351.222(b)(2), based on our examination of the sales data submitted by Marine Gold, we preliminarily determine that it sold the subject merchandise in the United States in commercial quantities in each of the consecutive years cited by Marine Gold to support its request for revocation.⁹ Moreover, we preliminarily find that Marine Gold did not engage in dumping during the same three years under consideration.¹⁰ Therefore, we preliminarily determine that Marine Gold's exports of subject merchandise qualify for revocation from the order pursuant to 19 CFR 351.222(b)(2).

⁹ See the Memorandum to the File, from Blaine Wiltse, Senior Analyst, Office 2, AD/CVD Operations, entitled, “Analysis of Commercial Quantities for Marine Gold Products Limited's Request for Revocation,” dated March 4, 2013.

¹⁰ See Certain Frozen Warmwater Shrimp From Thailand: Final Results of Antidumping Duty Administrative Review and Final No Shipment Determination, 76 FR 40881, 40883 (July 12, 2011); see also the “Preliminary Determination To Revoke Order, In Part” section in the Preliminary Decision Memorandum.

Preliminary Rescission, in Part

On February 29, 2012, the petitioner requested that the Department review entries of Tanaya International Co., Ltd. and Tanaya Intl. (collectively, Tanaya). On April 27, 2012, we received a letter from Tanaya stating that it does not produce or export shrimp, nor has it ever produced or exported the subject merchandise. On February 14, 2013, Tanaya properly certified this submission, in accordance with 19 CFR 351.303(g)(1), at the Department's request.

According to 19 CFR 351.213(b), the Department conducts administrative reviews on exporters or producers covered by an order. In this particular situation, Tanaya is neither an exporter nor manufacturer of the subject merchandise. Furthermore, Tanaya has made no entries, exports, or sales of the subject merchandise during the POR. Therefore, pursuant to 19 CFR 351.213(d)(3), the Department is preliminarily rescinding the review with respect to Tanaya.

Preliminary Results of Review

As a result of this review, we preliminarily determine that the weighted-average dumping margins for Marine Gold and Thai Union for the period February 1, 2011, through January 31, 2012, are as follows:

Manufacturer/exporter | Percent margin
Marine Gold | 0.00
Thai Union | 0.51

Review-Specific Average Rate Applicable to the Following Companies: ¹¹

¹¹ This rate is based on the rates for the respondents that were selected for individual review, excluding rates that are zero, de minimis or based entirely on facts available.

Manufacturer/exporter | Percent margin
A Foods 1991 Co., Ltd | 0.51
A. Wattanachai Frozen Products Co., Ltd | 0.51
A.S. Intermarine Foods Co., Ltd | 0.51
ACU Transport Co., Ltd | 0.51
Anglo-Siam Seafoods Co., Ltd | *
Apex Maritime (Thailand) Co., Ltd | 0.51
Apitoon Enterprise Industry Co., Ltd | 0.51
Applied DB | 0.51
Asian Seafood Coldstorage (Sriracha) | 0.51
Asian Seafoods Coldstorage Public Co., Ltd./Asian Seafoods Coldstorage (Suratthani) Co./STC Foodpak Ltd | 0.51
Assoc. Commercial Systems | 0.51
B.S.A. Food Products Co., Ltd | 0.51
Bangkok Dehydrated Marine Product Co., Ltd | 0.51
C Y Frozen Food Co., Ltd | 0.51
C.P. Retailing and Marketing Co., Ltd | 0.51
Calsonic Kansei (Thailand) Co., Ltd | 0.51
Century Industries Co., Ltd | 0.51
Chaivaree Marine Products Co., Ltd | 0.51
Chaiwarut Company Limited | 0.51
Charoen Pokphand Foods Public Company Limited | 0.51
Chonburi LC | 0.51
Chue Eie Mong Eak Ltd. Part | 0.51
Commonwealth Trading Co., Ltd | 0.51
Core Seafood Processing Co., Ltd | 0.51
CP Merchandising Co., Ltd ³ | 0.51
Crystal Frozen Foods Co., Ltd. and/or Crystal Seafood | 0.51
Daedong (Thailand) Co. Ltd | *
Daiei Taigen (Thailand) Co., Ltd | 0.51
Daiho (Thailand) Co., Ltd | 0.51
Dynamic Intertransport Co., Ltd | 0.51
Earth Food Manufacturing Co., Ltd | 0.51
F.A.I.T. Corporation Limited | 0.51
Far East Cold Storage Co., Ltd | 0.51
Findus (Thailand) Ltd | 0.51
Fortune Frozen Foods (Thailand) Co., Ltd | 0.51
Frozen Marine Products Co., Ltd | 0.51
Gallant Ocean (Thailand) Co., Ltd | 0.51
Gallant Seafoods Corporation | 0.51
Global Maharaja Co., Ltd | 0.51
Golden Sea Frozen Foods Co., Ltd | 0.51
Golden Thai Imp. & Exp. Co., Ltd | 0.51
Good Fortune Cold Storage Co. Ltd | 0.51
Good Luck Product Co., Ltd | 0.51
Grobest Frozen Foods Co., Ltd | *
GSE Lining Technology Co., Ltd | 0.51
Gulf Coast Crab Intl | 0.51
H.A.M. International Co., Ltd | 0.51
Haitai Seafood Co., Ltd | 0.51
Handy International (Thailand) Co., Ltd | 0.51
Heng Seafood Limited Partnership | 0.51
Heritrade Co., Ltd | 0.51
HIC (Thailand) Co., Ltd | 0.51
High Way International Co., Ltd | 0.51
I.T. Foods Industries Co., Ltd | 0.51
Inter-Oceanic Resources Co., Ltd | 0.51
Inter-Pacific Marine Products Co., Ltd | 0.51
K & U Enterprise Co., Ltd | 0.51
K Fresh | 0.51
K. D. Trading Co., Ltd | 0.51
K.L. Cold Storage Co., Ltd | 0.51
KF Foods Limited | 0.51
Kiang Huat Sea Gull Trading Frozen Food Public Co., Ltd | 0.51
Kibun Trdg | 0.51
Kingfisher Holdings Ltd | 0.51
Kitchens of the Oceans (Thailand) Company, Limited | 0.51
Klang Co., Ltd | 0.51
Kongphop Frozen Foods Co., Ltd | 0.51
Kosamut Frozen Foods Co., Ltd./The Siam Union Frozen Foods Co., Ltd | 0.51
Lee Heng Seafood Co., Ltd | 0.51
Leo Transports | *
Li-Thai Frozen Foods Co., Ltd | 0.51
Lucky Union Foods Co., Ltd | *
Maersk Line | 0.51
Magnate & Syndicate Co., Ltd | 0.51
Mahachai Food Processing Co., Ltd | 0.51
Merit Asia Foodstuff Co., Ltd | 0.51
Merkur Co., Ltd | 0.51
Ming Chao Ind Thailand | 0.51
N&N Foods Co., Ltd | 0.51
NR Instant Produce Co., Ltd | 0.51
Namprik Maesri Ltd. Part | *
Narong Seafood Co., Ltd | 0.51
Nongmon SMJ Products | 0.51
Ongkorn Cold Storage Co., Ltd./Thai-Ger Marine Co., Ltd | 0.51
Pacific Queen Co., Ltd | 0.51
Pakfood Public Company Limited/Asia Pacific (Thailand) Co., Ltd./Chaophraya Cold Storage Co., Ltd./Okeanos Co.,Ltd./Okeanos Food Co., Ltd./Takzin Samut Co., Ltd ¹² | 0.51
Penta Impex Co., Ltd | 0.51
Pinwood Nineteen Ninety Nine | 0.51
Piti Seafood Co., Ltd | 0.51
Premier Frozen Products Co., Ltd | 0.51
Preserved Food Specialty Co., Ltd | 0.51
Queen Marine Food Co., Ltd | 0.51
Rayong Coldstorage (1987) Co., Ltd | 0.51
S&D Marine Products Co., Ltd | 0.51
S&P Aquarium | 0.51
S&P Syndicate Public Company Ltd | *
S. Chaivaree Cold Storage Co., Ltd | 0.51
S. Khonkaen Food Industry Public Co., Ltd. and/or S. Khonkaen Food Ind. Public | 0.51
S.K. Foods (Thailand) Public Co. Limited | *
Samui Foods Company Limited | 0.51
SB Inter Food Co., Ltd | 0.51
SCT Co., Ltd | 0.51
Sea Bonanza Food Co., Ltd | 0.51
SEA NT'L CO., Ltd | 0.51
Seafoods Enterprise Co., Ltd | 0.51
Seafresh Fisheries/Seafresh Industry Public Co., Ltd | 0.51
Search & Serve | 0.51
Shianlin Bangkok Co., Ltd | 0.51
Shing Fu Seaproducts Development Co | 0.51
Siam Food Supply Co., Ltd | 0.51
Siam Intersea Co., Ltd | 0.51
Siam Marine Products Co., Ltd | 0.51
Siam Ocean Frozen Foods Co., Ltd | 0.51
Siamchai International Food Co., Ltd | *
Smile Heart Foods | 0.51
SMP Products, Co., Ltd | 0.51
Southport Seafood Co., Ltd | 0.51
Star Frozen Foods Co., Ltd | 0.51
Starfoods Industries Co., Ltd | 0.51
Suntechthai Intertrading Co., Ltd | 0.51
Surapon Foods Public Co., Ltd./Surat Seafoods Co., Ltd | 0.51
Surapon Nichirei Foods Co., Ltd | 0.51
Suratthani Marine Products Co., Ltd | 0.51
Suree Interfoods Co., Ltd | 0.51
T.S.F. Seafood Co., Ltd | 0.51
Tep Kinsho Foods Co., Ltd | 0.51
Teppitak Seafood Co., Ltd | 0.51
Tey Seng Cold Storage Co., Ltd | 0.51
Thai Agri Foods Public Co., Ltd | 0.51
Thai Mahachai Seafood Products Co., Ltd | 0.51
Thai Ocean Venture Co., Ltd | 0.51
Thai Patana Frozen | 0.51
Thai Prawn Culture Center Co., Ltd | 0.51
Thai Royal Frozen Food Co., Ltd | 0.51
Thai Spring Fish Co., Ltd | 0.51
Thai Union Manufacturing Company Limited | *
Thai World Imports and Exports Co., Ltd | 0.51
Thai Yoo Ltd., Part | 0.51
The Union Frozen Products Co., Ltd./Bright Sea Co., Ltd | 0.51
Trang Seafood Products Public Co., Ltd | 0.51
Transamut Food Co., Ltd | 0.51
Tung Lieng Tradg | 0.51
United Cold Storage Co., Ltd | 0.51
V. Thai Food Product Co., Ltd | *
Xian-Ning Seafood Co., Ltd | 0.51
Yeenin Frozen Foods Co., Ltd | 0.51
YHS Singapore Pte | 0.51
ZAFCO TRDG | 0.51

Disclosure and Public Comment

The Department intends to disclose to interested parties the calculations performed in connection with these preliminary results within five days of the date of publication of this notice.¹³ Pursuant to 19 CFR 351.309(c), interested parties may submit cases briefs not later than the later of 30 days after the date of publication of this notice or one week after the issuance of the last verification report for Marine Gold. Rebuttal briefs, limited to issues raised in the case briefs, may be filed not later than five days after the date for filing case briefs.¹⁴ Parties who submit case briefs or rebuttal briefs in this proceeding are encouraged to submit with each argument: (1) A statement of the issue; (2) a brief summary of the argument; and (3) a table of authorities.¹⁵ Case and rebuttal briefs should be filed using IA ACCESS.¹⁶

¹² In the 2007-2008 administrative review, the Department found that the following companies comprised a single entity: Pakfood Public Company Limited, Asia Pacific (Thailand) Co., Ltd., Chaophraya Cold Storage Co. Ltd., Okeanos Co. Ltd., Okeanos Food Co. Ltd., and Takzin Samut Co. Ltd. See Certain Frozen Warmwater Shrimp from Thailand: Final Results and Partial Rescission of Antidumping Duty Administrative Review, 74 FR 47551 (September 16, 2009), and accompanying Issues and Decision memorandum at Comment 6. Absent information to the contrary, we intend to continue to treat these companies as a single entity for purposes of this administrative review.

¹³ See 19 CFR 351.224(b).

¹⁴ See 19 CFR 351.309(d).

¹⁵ See 19 CFR 351.309(c)(2) and (d)(2).

¹⁶ See 19 CFR 351.303.

Pursuant to 19 CFR 351.310(c), interested parties who wish to request a hearing, or to participate if one is requested, must submit a written request to the Assistant Secretary for Import Administration, filed electronically via IA ACCESS. An electronically-filed document must be received successfully in its entirety by the Department's electronic records system, IA ACCESS, by 5 p.m. Eastern Standard Time within 30 days after the date of publication of this notice.¹⁷ Requests should contain: (1) The party's name, address, and telephone number; (2) the number of participants; and (3) a list of issues to be discussed. Issues raised in the hearing will be limited to those raised in the respective case briefs. The Department will issue the final results of this administrative review, including the results of its analysis of the issues raised in any written briefs, not later than 120 days after the date of publication of this notice, pursuant to section 751(a)(3)(A) of the Act.

¹⁷ See 19 CFR 351.310(c).

Assessment Rates

Upon completion of the administrative review, the Department shall determine, and CBP shall assess, antidumping duties on all appropriate entries, in accordance with 19 CFR 351.212(b)(1).

For Marine Gold and Thai Union, we will calculate importer-specific ad valorem duty assessment rates based on the ratio of the total amount of antidumping duties calculated for the examined sales to the total entered value of the sales.¹⁸

¹⁸ See 19 CF 351.212(b)(1).

For the companies which were not selected for individual review, we will calculate an assessment rate based on the weighted-average of the cash deposit rates calculated for the companies selected for mandatory review (i.e., Marine Gold and Thai Union).

We will instruct CBP to assess antidumping duties on all appropriate entries covered by this review if any importer-specific assessment rate calculated in the final results of this review is above de minimis. Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review and for future deposits of estimated duties, where applicable.¹⁹

¹⁹ See section 751(a)(2)(C) of the Act.

The Department clarified its “automatic assessment” regulation on May 6, 2003. This clarification will apply to entries of subject merchandise during the POR produced by Marine Gold and Thai Union for which these companies did not know that the merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recent period; (3) if the exporter is not a firm covered in this review, or the original less-than-fair-value investigation, but the manufacturer is, the cash deposit rate will be the rate established for the most recent period for the manufacturer of the merchandise; and (4) the cash deposit rate for all other manufacturers or exporters will continue to be 5.34 percent, the all-others rate made effective by the Section 129 Determination.²⁰ These deposit requirements, when imposed, shall remain in effect until further notice.

²⁰ Effective January 16, 2009, there is no longer a cash deposit requirement for certain producers/exporters in accordance with the Implementation of the Findings of the WTO Panel in United States Antidumping Measure on Shrimp from Thailand: Notice of Determination under Section 129 of the Uruguay Round Agreements Act and Partial Revocation of the Antidumping Duty Order on Frozen Warmwater Shrimp from Thailand, 74 FR 5638 (January 30, 2009) (Section 129 Determination).

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: March 4, 2013.
Paul Piquado,
Assistant Secretary for Import Administration.

Appendix

List of Topics Discussed in the Preliminary Decision Memorandum

1. Summary

2. Background

3. Scope of the Order

4. Preliminary Determination To Revoke Order, In Part

5. Preliminary Determination of No Shipments

6. Preliminary Rescission of Review, In Part

7. Discussion of the Methodology

a. Normal Value Comparisons

b. Targeted Dumping

c. Results of Targeted Dumping Analysis

d. Product Comparisons

e. Date of Sale

f. Export Price/Constructed Export Price

g. Normal Value

h. Currency Conversion

8. Recommendation

[FR Doc. 2013-05665 Filed 3-11-13; 8:45 am]

BILLING CODE 3510-DS-P